ENVIRONMENTAL PROTECTION AGENCY

40 CFR Part 60

[OAR-2002-0053, FRL-7502-4]

RIN 2060-AK35

Standards of Performance for Stationary Gas Turbines

AGENCY: Environmental Protection Agency (EPA).

ACTION: Withdrawal of direct final rule.

SUMMARY: On April 14, 2003, the EPA published a direct final rule to amend the standards of performance for stationary gas turbines, along with a parallel proposal to be used as a basis for final action in the event that we received any adverse comments on the direct final rule amendments. Because we received adverse comments and a request for a public hearing, we are withdrawing the direct final rule. We will address all comments in a subsequent final rule based on the parallel proposal published on April 14, 2003.

DATES: As of May 28, 2003, EPA withdraws all changes to 40 CFR 60.17, 60.331, 60.332, 60.333, 60.334, and 60.335, published at 68 FR 17990 on April 14, 2003.

ADDRESSES: Docket number OAR-2002-0053, containing supporting information used in the development of the withdrawal is available for public viewing at the Air Docket in the EPA Docket Center, Room B108, 1301 Constitution Ave., NW., Washington, DC 20460. The EPA Docket Center Public Reading Room is open from 8:30 a.m. to 4:30 p.m., Monday through Friday, excluding legal holidays. The telephone number for the Public Reading Room is (202) 566-1744. The telephone number for the Air Docket is (202) 566-1742.

An electronic version of the public docket is available through EPA's electronic public docket and comment system, EPA Dockets. You may use EPA Dockets at http://www.epa.gov/edocket/ to view public comments, access the index of the contents of the official public docket, and access those documents in the public docket that are available electronically. Once in the system, select “search” and key in the appropriate docket identification number.

Certain types of information will not be placed in the EPA Dockets. Information claimed as confidential business information and other information whose disclosure is restricted by statute, which are not included in the official public docket, will not be available for public viewing in EPA's electronic public docket. The EPA's policy is that copyrighted material will not be placed in EPA's electronic public docket but will be available only in printed, paper form in the official public docket. Although not all docket materials may be available electronically, you may still access any of the publicly available docket materials through the docket facility identified in this document.

FOR FURTHER INFORMATION CONTACT: Mr. Jaime Pagan, Combustion Group, Emission Standards Division (C439-01), U.S. EPA, Research Triangle Park, North Carolina 27711; telephone number (919) 541-5340; facsimile number (919) 541-5450; electronic mail address pagan.jaime@epa.gov.

SUPPLEMENTARY INFORMATION: On April 14, 2003, we published a direct final rule (68 FR 17990) and a parallel proposal (68 FR 18003) amending the standards of performance for stationary gas turbines (40 CFR part 60, subpart GG). The amendments codified several alternative testing and monitoring procedures that have routinely been approved by EPA. The amendments also reflected changes in emission control technologies and turbine design since the original promulgation of the rule on September 10, 1979.

We stated in the preamble to the direct final rule and parallel proposal that if we received significant material adverse comment on one or more distinct provisions of the direct final rule, we would publish a timely withdrawal of those distinct provisions in the Federal Register. The direct final rule stated that the deadline for submitting public comments was May 14, 2003, and that the effective date of the provisions would be May 29, 2003. The proposal also stated that if a public hearing was requested by April 24, 2003, the hearing would be held on May 14, 2003, at the New EPA Facility Complex in Research Triangle Park, North Carolina, at 10 a.m., and that the comment period would be extended until 30 days after the date of the public hearing.

In a proposed rule published elsewhere in this issue, EPA gives notice that since a public hearing was requested, the comment period has been extended until June 13, 2003, which clearly falls after what would have been the effective date of the direct final rule. We have decided to withdraw the entire direct final rule to avoid allowing the direct final rule to become effective before all public comments have been received. The EPA will promulgate a final rule in the near future that considers all of the comments received and any material testimony presented at the public hearing.

Accordingly, the entire direct final rule is withdrawn as of May 28, 2003. We will take final action on the proposed rule after considering the comments received. We will not institute a second comment period on this action.

List of Subjects in 40 CFR Part 60

Environmental protection, Administrative practice and procedure, Air pollution control, Incorporation by reference, Intergovernmental relations, Nitrogen dioxide, Reporting and recordkeeping requirements, Sulfur oxides.

Dated: May 15, 2003.
Robert Brenner,
Acting Assistant Administrator.

[FR Doc. 03-12862 Filed 5-27-03; 8:45 am]

BILLING CODE 6560-50-P